DEPARTMENT OF TRANSPORTATION

Federal Aviation Administration

14 CFR Part 39

[Docket No. FAA-2008-0195; Directorate Identifier 2008-CE-008-AD; Amendment 39-15387; AD 2008-04-15]

RIN 2120-AA64

Airworthiness Directives; Cameron Balloons Ltd. Models AX5-42 (S.1), AX5-42 BOLT, AX6-56 (S.1), AX6-56A, AX6-56Z, AX6-56 BOLT, AX7-65 (S.1), AX7-65Z, AX7-65 BOLT, AX7-77 (S.1.), AX7-77A, AX7-77Z, AX7-77 BOLT, AX8-90 (S.1), AX8-90 (S.2), AX8-105 (S.1), AX8-105 (S.2), AX9-120 (S.1), AX9-120 (S.2), AX9-140 (S.2), AX10-160 (S.1), AX10-160 (S.2), AX10-180 (S.1), AX10-180 (S.2), AX210 (S.2), AX11-225 (S.2), and AX11-250 (S.2) Balloons

AGENCY: Federal Aviation Administration (FAA), DOT.

ACTION: Final rule; request for comments.

SUMMARY: We are adopting a new airworthiness directive (AD) for the products listed above. This AD results from mandatory continuing airworthiness information (MCAI) issued by the aviation authority of another country to identify and correct an unsafe condition on an aviation product. The MCAI describes the unsafe condition as:

Defective inlet self-seal valves have been identified. Detachment of a seal inside the valve could result in partial or complete blockage of the burner supply.

On a hopper balloon this failure would result in an uncontrolled descent. In some circumstances this could result in serious injury.

This AD requires actions that are intended to address the unsafe condition described in the MCAI.

DATES: This AD becomes effective March 25, 2008.

On March 25, 2008, the Director of the Federal Register approved the incorporation by reference of certain publications listed in this AD.

We must receive comments on this AD by April 4, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examing the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Taylor Martin, Aerospace Engineer, 901 Locust, Room 301, Kansas City, Missouri 64106; telephone: (816) 329-4138; fax: (816) 329-4090.

SUPPLEMENTARY INFORMATION:

Discussion

The Civil Aviation Authority, which is the aviation authority for the United Kingdom, has issued AD No: G-2008-0002, dated January 14, 2008 (referred to after this as ``the MCAI''), to correct an unsafe condition for the specified products. The MCAI states:

Defective inlet self-seal valves have been identified. Detachment of a seal inside the valve could result in partial or complete blockage of the burner supply.

On a hopper balloon this failure would result in an uncontrolled descent. In some circumstances this could result in serious injury.

The MCAI requires you inspect fuel gas cylinder to identify whether the cylinder liquid valve is from the affected batch of valves and replace any self-seal valve found from the affected batch.

You may obtain further information by examining the MCAI in the AD docket.

Relevant Service Information

Cameron Balloons Ltd. has issued Service Bulletin No. SB16, dated January 8, 2008; and Service Bulletin No. SB17, dated January 8, 2008. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

This design cylinder liquid valve may also be installed on balloon models of Cameron Balloons USA. The corrective actions in the AD are specified to Cameron Balloons Ltd. Models, for which the United Kingdom is the State of Design. We are currently evaluating other valve installations on Cameron Balloons USA, for which the United States is the State of Design. We are evaluating these other installations and, based on the evaluation, may consider additional rulemaking on this subject.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might have also required different actions in this AD from those in the MCAI in order to follow FAA policies. Any such differences are described in a separate paragraph of the AD. These requirements take precedence over those copied from the MCAI.

FAA's Determination of the Effective Date

An unsafe condition exists that requires the immediate adoption of this AD. The FAA has found that the risk of the flying public justifies waiving notice and comment prior to adoption of this rule because detachment of a seal inside the valve could result in partial or complete blockage of the burner supply. This failure could result in an uncontrolled descent and serious injury. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2008-0195; Directorate Identifier 2008-CE-008-AD” at the beginning of your comments. We specifically invite comments on the overall regulatory, economic, environmental, and energy aspects of this AD. We will consider all comments received by the closing date and may amend this AD of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed in the AD docket.

Lists of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-04-15 Cameron Balloons Ltd.: Amendment 39-15387; Docket No. FAA-2008-0195; Directorate Identifier 2008-CE-008-AD.

Effective Date

(a) This airworthiness directive (AD) becomes effective March 25, 2008.

Affected ADs

(b) None.

Applicability

(c) This AD applies to all of the balloon models listed below, certificated in any category, that incorporate Cameron Balloons Ltd. fuel cylinders fitted with rego-type cylinder liquid valves part number (P/N) CB-0824-0001 that are date-stamped from 12/05 through 08/06: Models AX5-42 (S.1), AX5-42 BOLT, AX6-56 (S.1), AX6-56A, AX6-56Z, AX6-56 BOLT, AX7-65 (S.1), AX7-65Z, AX7-65 BOLT, AX7-77 (S.1), AX7-77A, AX7-77Z, AX7-77 BOLT, AX8-90 (S.1), AX8-90 (S.2), AX8-105 (S.1), AX8-105 (S.2), AX9-120 (S.1), AX9-120 (S.2), AX9-140 (S.2), AX10-160 (S.1), AX10-160 (S.2), AX10-180 (S.1), AX10-180 (S.2), AX210 (S.2), AX11-225 (S.2), and AX11-250 (S.2) balloons.

Subject

(d) Air Transport Association of America (ATA) Code 28: Fuel.

Reason

(e) The mandatory continuing airworthiness information (MCAI) states:

Defective inlet self-seal valves have been identified. Detachment of a seal inside the valve could result in partial or complete blockage of the burner supply.

On a hopper balloon this failure would result in an uncontrolled descent. In some circumstances this could result in serious injury.

The MCAI requires you inspect the fuel cylinder to identify whether the cylinder liquid valve is from the affected batch of valves and replace any self-seal valve found from the affected batch.

Actions and Compliance

(f) Unless already done, do the following actions.

(1) Before further flight as of March 25, 2008. (the effective date of this AD), inspect any gas cylinder to identify whether the cylinder liquid valve is from the affected batch of valves following Cameron Balloons Ltd. Service Bulletin No. SB16, dated January 8, 2008; and Cameron Balloons Ltd. Service Bulletin No. SB17, dated January 8, 2008.

(2) For single cylinder balloons or multi-cylinder hopper balloons: Before further flight, if you find any cylinder liquid valve from the affected batch (rego-type cylinder liquid valve P/N CB-0824-0001 which is date-stamped from 12/05 through 08/06) installed as a result of the inspection required by paragraph (f)(1) of this AD, replace the self-seal valve following Cameron Balloons Ltd. Service Bulletin No. SB16, dated January 8, 2008; and Cameron Balloons Ltd. Service Bulletin No. SB17, dated January 8, 2008.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Special Flight Permit

(h) We are not issuing any special flight permit for you to operate any single cylinder or multi-cylinder (used on a hopper balloon) balloon which has any rego-type cylinder liquid valve P/N CB-0824-0001 fitted and which is date-stamped from 12/05 through 08/06.

Related Information

(i) Refer to MCAI United Kingdom Civil Aviation Authority AD No.: G-2008-0002, dated January 14, 2008; Cameron Balloons Ltd. Service Bulletin No. SB16, dated January 8, 2008; and Cameron Balloons Ltd. Service Bulletin No. SB17, dated January 8, 2008, for related information.

Material Incorporated by Reference

(j) You must use Cameron Balloons Ltd. Service Bulletin No. SB16, dated January 8, 2008; and Cameron Balloons Ltd. Service Bulletin No. SB17, dated January 8, 2008, to do the actions required by this AD, unless the AD specifies otherwise.

(1) The Director of the Federal Register approved the incorporation by reference of this service information under 5 U.S.C. 552(a) and 1 CFR part 51.

(2) For service information identified in this AD, contact Cameron Balloons Ltd., St. Johns Street, Bedminster, Bristol; BS3 4NH; telephone: +44 (0) 117 9637216; fax: +44 (0) 177 966168; or Cameron Balloons, P.O. Box 3672, Ann Arbor, Michigan 46106; telephone: (734) 426-5525; fax: (734) 426-5026.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on February 14, 2008.
David R. Showers,
Acting Manager, Small Airplane Directorate, Aircraft Certification Service.

[FR Doc. 08-786 Filed 3-4-08; 8:45 am]

BILLING CODE 4910-13-M